STATE JUSTICE INSTITUTE

Sunshine Act Meeting

Dates: Friday, May 5, 2000, 9:00 am-5:00 pm; Saturday, May 6, 2000, 8:00 am-11:00 pm.

Place: Amelia Island Plantation, Amelia Island, FL.

Matters to be Considered: Consideration of proposals submitted for Institute funding and internal Institute business.

Portions Open to the Public: All matters.

Portions Closed to the Public: None.

Contact Person: David Tevelin, Executive Director, State Justice Institute, 1650 King Street, Suite 600, Alexandria, VA 22314, (703) 684-6100.

David I. Tevelin,
Executive Director.

[FR Doc. 00-10588 Filed 4-25-00; 10:15 am]

BILLING CODE 6820-SC-M